DEPARTMENT OF ENERGY

Federal Energy Regulatory Commission

Notice

November 13, 2001.

The following notice of meeting is published pursuant to section 3(a) of the Government in the Sunshine Act (Pub. L. No. 94-409), 5 U.S.C 552B:

AGENCY HOLDING MEETING: Federal Energy Regulatory Commission.

DATE AND TIME: November 20, 2001, 10:00 a.m.

PLACE: Room 2C, 888 First Street, NE., Washington, DC 20426.

STATUS: Open.

MATTERS TO BE CONSIDERED: Agenda.

* Note: Items Listed on the agenda may be deleted without further notice.

CONTACT PERSON FOR MORE INFORMATION: David P. Boergers, Secretary, Telephone (202) 208-0400, For a recording listing items stricken from or added to the meeting, call (202) 208-1627.

This is a list of matters to be considered by the Commission. It does not include a listing of all papers relevant to the items on the agenda; however, all public documents may be examined in the Reference and Information Center.

779th—Meeting November 20, 2001; Regular Meeting, 10:00 A.M.

Administrative Agenda

A-1.

DOCKET# AD02-1, 000, Agency Administrative Matters

A-2.

DOCKET# AD02-2, 000, Legislative Matters

A-3.

DOCKET# AD02-3, 000, Customer Matters

A-4.

DOCKET# AD02-4, 000, Reliability, Security and Market Operations

Miscellaneous Agenda

M-1.

OMITTED

Markets, Tariffs and Rates—Electric

E-1.

OMITTED

E-2.

DOCKET# EL01-92, 000, Bangor Hydro-Electric Company v. ISO New England Inc.

E-3.

DOCKET# ER01-2462, 000, PG&E Fossil LLC, PSEG Energy Resources & Trade LLC and PSEG Nuclear LLC

OTHER#S ER01-2462, 001, PG&E Fossil LLC, PSEG Energy Resources & Trade LLC and PSEG, Nuclear LLC

ER01-2462, 002, PG&E Fossil LLC, PSEG Energy Resources & Trade LLC and PSEG Nuclear LLC

E-4

DOCKET# ER01-3111, 000, Tucson Electric Power Company

OTHER#S ER00-2998, 001, Southern Company Services, Inc.

ER00-2999, 001, Southern Company Services, Inc.

ER00-3000, 001, Southern Company Services, Inc.

ER00-3001, 001, Southern Company Services, Inc.

E-5.

DOCKET# ER01-2390, 002, Huntington Beach Development, L.L.C.

E-6.

DOCKET# ER01-3112, 000, New York Independent System Operator, Inc.

OTHER#S ER01-3112, 001, New York Independent System Operator, Inc.

ER01-3112, 002, New York Independent System Operator, Inc.

E-7.

DOCKET# ER01-2924, 000, WPS Resources Operating Companies

OTHER#S ER01-2924, 001, WPS Resources Operating Companies

E-8.

DOCKET# ER01-3123, 000, American Electric Power Service Corporation

E-9.

DOCKET# ER01-3122, 000, Appalachian Power Company

E-10.

DOCKET# ER01-3120, 000, Kentucky Power Company

E-11.

DOCKET# ER01-3074, 000, San Diego Gas & Electric Company

OTHER#S ER01-3074, 001, San Diego Gas & Electric Company

E-12.

DOCKET# ER01-3141, 000, American Electric Power Service Corporation

E-13.

DOCKET# ER01-3155, 000, New York Independent System Operator, Inc.

E-14.

DOCKET# ER01-3147, 000, New York Independent System Operator, Inc.

E-15.

DOCKET# ER02-92, 000, Virginia Electric and Power Company

OTHER#S ER02-93, 000, Virginia Electric and Power Company

E-16.

DOCKET# ER02-42, 000, GWF Energy LLC

OTHER#S ER00-2998, 001, Southern Company Services, Inc.

ER00-2999, 001, Southern Company Services, Inc.

ER00-3000, 001, Southern Company Services, Inc.

ER00-3001, 001, Southern Company Services, Inc.

E-17.

DOCKET# ER02-52, 000, Carolina Power & Light Company

E-18.

OMITTED

E-19.

OMITTED

E-20.

DOCKET# EC01-151, 000, Otter Tail Power Company

E-21.

OMITTED

E-22.

DOCKET# ER01-2534, 000, New England Power Company

OTHER#S ER01-2534, 001, New England Power Company

ER01-2534, 002, New England Power Company

E-23.

DOCKET# ER01-3149, 000, Nevada Power Company

E-24.

DOCKET# ER01-1587, 002, Consumers Energy Company

E-25.

OMITTED

E-26.

DOCKET# ER96-2495, 015, AEP Power Marketing, Inc., AEP Service Corporation, CSW Power Marketing, Inc., CSW Energy Services, Inc. and Central and South West Services, Inc.

OTHER#S ER97-1238, 010, AEP Power Marketing, Inc., AEP Service Corporation, CSW Power Marketing, Inc., CSW Energy Services, Inc. and Central and South West Services, Inc.

ER97-4143, 003, AEP Power Marketing, Inc., AEP Service Corporation, CSW Power Marketing, Inc., CSW Energy Services, Inc. and Central and South West Services, Inc.

ER98-542, 005, AEP Power Marketing, Inc., AEP Service Corporation, CSW Power Marketing, Inc., CSW Energy Services, Inc. and Central and South West Services, Inc.

ER98-2075, 009, AEP Power Marketing, Inc., AEP Service Corporation, CSW Power Marketing, Inc., CSW Energy Services, Inc. and Central and South West Services, Inc.

ER91-569, 009, Entergy Services, Inc.

ER97-4166, 008, Southern Company Energy Marketing, L.P.

E-27.

DOCKET# ER99-396, 000, Atlantic City Electric Company, Baltimore Gas and Electric Company, Delmarva Power & Light Company, PECO Energy Company, PP&L, Inc., Potomac Electric Power Company, Public Service Electric and Gas Company, Jersey Central Power & Light Company, Metropolitan Edison Company, Pennsylvania Electric Company and UGI Utilities, Inc.

E-28.

DOCKET# TX97-5, 000, Tennessee Power Company

E-29.

DOCKET# EL00-62, 034, ISO New England Inc.

E-30.

OMITTED

E-31.

DOCKET# ER99-4392, 001, Southwest Power Pool, Inc.

E-32.

DOCKET# EL99-90, 001, City of Wichita, Kansas v. Western Resources, Inc.

OTHER#S EL99-90, 002, City of Wichita, Kansas v. Western Resources, Inc.

E-33.

DOCKET# ER99-3719, 001, Mountain West Independent System Administrator

OTHER#S EC99-100, 001, Sierra Pacific Power Company and Nevada Power Company

E-34.

OMITTED

E-35.

DOCKET# EL01-45, 001, Consolidated Edison Company of New York, Inc.

OTHER#S ER01-1385, 001, Consolidated Edison Company of New York, Inc.

E-36.

DOCKET# ER01-2596, 001, NEU Management Committee

E-37.

OMITTED

E-38.

DOCKET# NJ01-9, 000, Umatilla Electric Cooperative Association

E-39. OMITTED

E-40.

DOCKET# EL01-77, 000, Cogeneration Association of California, Coalinga Cogeneration Company, Kern River Cogeneration Company, Mid-Set Cogeneration Company, Sycamore Cogeneration Company, Texaco Kern Field Projects, Sargent Canyon Cogeneration Company, Salinas River Cogeneration Company, Texaco North Midway Cogeneration Project, Texaco McKittrick Cogeneration Project, Midway Sunset Cogeneration Company and Watson Cogeneration Company v. California Public Utilities Commission

E-41.

OMITTED

E-42.

DOCKET# EL00-99, 000, Maine Public Utilities Commission v. ISO New England, Inc.

OTHER#S EL00-100,000, United Illuminating Company v. ISO New England, Inc.

EL00-112, 000, Bangor Hydro-Electric Company v. ISO New England, Inc.

E-43.

DOCKET# EL01-19, 000, H.Q. Energy Services (U.S.), Inc. v. New York Independent System Operator, Inc.

OTHER#S EL02-16, 000, PSEG Energy Resource & Trade LLC v. New York Independent System Operator, Inc.

E-44.

DOCKET# EL01-115, 000, Kinder Morgan Power Company v. Southern Company Services, Inc.

E-45.

OMITTED

E-46.

DOCKET# EL02-7, 000, Reliant Energy Power Generation, Inc., Reliant Energy Services, Inc., Mirant Americas Energy Marketing, LP and Mirant California, LLC v. the California Independent System Operator, Corporation

E-47.

DOCKET# EL01-118, 000, Investigation of Terms and Conditions of Public Utility Market-Based Rate Authorizations

Markets, Tariffs and Rates—Gas

G-1.

OMITTED

G-2.

OMITTED

G-3.

DOCKET# RP01-511, 000, Florida Gas Transmission Company

G-4.

OMITTED

G-5.

DOCKET# RP02-24, 000, Northwest Pipeline Corporation

G-6.

OMITTED

G-7.

DOCKET# RP00-347, 001, Canyon Creek Compression Company

G-8.

DOCKET# RP96-312, 017, Tennessee Gas Pipeline Company

OTHER#S RP96-312, 025, Tennessee Gas Pipeline Company

RP96-312, 026, Tennessee Gas Pipeline Company

G-9.

DOCKET# GT01-25, 001, ANR Pipeline Company

G-10.

DOCKET# RP99-301, 029, ANR Pipeline Company

G-11.

DOCKET# RP99-301, 030, ANR Pipeline Company

G-12.

OMITTED

G-13.

DOCKET# RP01-350, 005, Colorado Interstate Gas Company

OTHER#S RP01-200, 003, Colorado Interstate Gas Company

RP01-350, 002, Colorado Interstate Gas Company

RP01-350, 004, Colorado Interstate Gas Company

RP01-350, 003, Colorado Interstate Gas Company

G-14.

DOCKET# RP00-344, 003, Dominion Transmission, Inc.

OTHER#S RP00-601, 004, Dominion Transmission, Inc.

G-15.

DOCKET# IS01-441, 002, Olympic Pipe Line Company

G-16.

DOCKET# MG01-23, 001, Florida Gas Transmission Company

Energy Projects—Hydro

H-1.

DOCKET# UL98-1, 005, Great Northern Paper, Inc.

OTHER# UL98-1, 004, Great Northern Paper, Inc.

H-2.

DOCKET# DI99-2, 001, Alaska Power & Telephone Company

H-3.

DOCKET# P-2689, 021, N.E.W. HYDRO Incorporated

Energy Projects—Certificates

C-1.

DOCKET# CP01-161, 000, Southern Natural Gas Company

C-2.

DOCKET# CP01-360, 000, Tennessee Gas Pipeline Company

C-3.

DOCKET# CP00-437, 000, El Paso Natural Gas Company

C-4.

DOCKET# CP01-70, 001, Columbia Gas Transmission Corporation

OTHER#S CP01-70, 002, Columbia Gas Transmission Corporation

C-5.

DOCKET# CP01-423, 000, Dynegy LNG Production Terminal, L.P.

C-6.

DOCKET# CP01-36, 000, Zia Natural Gas Company, An Operating Division of Natural Gas Processing Company v. Raton Gas Transmission Company

OTHER#S CP01-382, 000, Zia Natural Gas Company, an Operating Division of Natural Gas Processing Company v. Raton Gas Transmission Company

CP01-383, 000, Raton Gas Transmission Company

CP01-52, 000, Raton Gas Transmission Company

C-7. DOCKET# GP01-1, 000, Shell Deepwater Development Inc., Shell Deepwater Production Inc. and Shell Offshore Inc.

C-8.

DOCKET# CP01-443, 000, K N Wattenberg Transmission Limited Liability Company

C-9. DOCKET# CP01-92, 001, East Tennessee Natural Gas Company

David P. Boergers,
Secretary.

[FR Doc. 01-28819 Filed 11-14-01; 12:15 pm]

BILLING CODE 6717-01-P